DEPARTMENT OF ENERGY

Federal Energy Regulatory Commission

[Docket No. RP01-229-000]

Trunkline LNG Company; Notice of Proposed Changes in FERC Gas Tariff

February 16, 2001.

Take notice that on February 13, 2001, Trunkline LNG Company (TLNG) tendered for filing as part of its FERC Gas Tariff, Original Volume No. 1-A, the tariff sheets listed on Appendix A attached to the filing to become effective March 15, 2001.

TLNG states that the purpose of this filing, made in accordance with the provisions of Section 154.204 of the Commission's Regulations, is to establish the flexibility under TLNG's tariff to negotiate rates in accordance with the Commission's Statement of Policy on Alternatives to Traditional Cost-of-Service Rate making for Natural Gas Pipelines, Docket No. RM95-6-000 and Regulation of Negotiated Transportation Services of Natural Gas Pipelines, Docket No. RM96-7-000 issued January 31, 1996 (Policy Statement). This filing establishes a negotiated/recourse rate program applicable to TLNG's Rate Schedule FTS consistent with the Policy Statement as well as other Commission pronouncements respecting negotiated rate filings.

TLNG states that copies of this filing are being served on all jurisdictional customers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

David P. Boergers,
Secretary.

[FR Doc. 01-4502 Filed 2-22-01; 8:45 am]

BILLING CODE 6717-01-M